ENVIRONMENTAL PROTECTION AGENCY

40 CFR Part 141

[EPA-HQ-OW-2002-0061; FRL-8231-9]

RIN 2040-AA97

National Primary Drinking Water Regulations: Ground Water Rule

Correction

In rule document 06-8763 beginning on page 65574 in the issue of Wednesday, November 8, 2006, make the following correction:

§141.402 [Corrected]

On page 65655, in § 141.402(c)(2), the table is corrected to read as follows:

Analytical Methods for Source Water Monitoring
Fecal indicator ¹ | Methodology | Method citation
E. coli | Colilert ³ | 9223 B.²
| Colisure ³ | 9223 B.²
| Membrane Filter Method with MI Agar | EPA Method 1604.⁴
| m-ColiBlue24 Test ⁵ |
| E*Colite Test ⁶ |
| EC-MUG ⁷ | 9221 F.²
| NA-MUG ⁷ | 9222 G.²
Enterococci | Multiple-Tube Technique | 9230B.²
| Membrane Filter Technique | 9230C.²
| Membrane Filter Technique | EPA Method 1600.⁸
| Enterolert ⁹ |
Coliphage | Two-Step Enrichment Presence-Absence Procedure | EPA Method 1601.¹⁰
| Single Agar Layer Procedure | EPA Method 1602.¹¹

[FR Doc. C6-8763 Filed 11-20-06; 8:45 am]

BILLING CODE 1505-01-D